DEPARTMENT OF ENERGY

Federal Energy Regulatory Commission

[Docket No. EC06-18-000]

Riverside Energy Center, LLC; Rocky Mountain Energy Center, LLC; Calpine Riverside Holdings, LLC; Calpine Seller; LSP Riverside Holding, LLC; Notice of Filing

November 1, 2005.

Take notice that on October 28, 2005, Riverside Energy Center, LLC, Rocky Mountain Energy Center, LLC (Rocky Mountain), Calpine Riverside Holdings, LLC, Calpine Seller and LSP Riverside Holding, LLC (LSP Riverside), tendered for filing an application under section 203 of the Federal Power Act for approval of the disposition of jurisdictional facilities in connection with the sale to LSP Riverside of an indirect ownership interest in Riverside and Rocky Mountain, each of which is a public utility.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. In reference to filings initiating a new proceeding, interventions or protests submitted on or before the comment deadline need not be served on persons other and the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on November 18, 2005.

Magalie R. Salas,
Secretary.

[FR Doc. E5-6156 Filed 11-4-05; 8:45 am]

BILLING CODE 6717-01-P